DEPARTMENT OF DEFENSE

Office of the Secretary

[Transmittal No. 16-14]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 16-14 with attached Policy Justification.

Dated: February 29, 2016.
Aaron Siegel,
Alternate OSD Federal Register Liaison Officer, Department of Defense.

BILLING CODE 5001-06-P

BILLING CODE 5001-06-C

Transmittal No. 16-14

Notice of Proposed Issuance of Letter of Offer Pursuant to Section 36(b)(1) of the Arms Export Control Act, as Amended

(i) Prospective Purchaser: Kingdom of Saudi Arabia

(ii) Total Estimated Value:

Major Defense Equipment * | $ 0 million
Other | $200 million
Total | $200 million

(iii) Description and Quantity or Quantities of Articles or Services under Consideration for Purchase: The Kingdom of Saudi Arabia has requested a possible sale of three years of support services by the United States Military Training Mission to Saudi Arabia (USMTM). USMTM is the Security Cooperation Organization (SCO) responsible for identifying, planning, and executing U.S. Security Cooperation training and advisory support for the Kingdom of Saudi Arabia Ministry of Defense.

(iv) Military Department: U.S. Army (ABT, Basic Case)

(v) Prior Related Cases, if any: SR-B-ABS-A01; $90M; implemented 30 Dec 13

(vi) Sales Commission, Fee. etc., Paid, Offered, or Agreed to be Paid: None

(vii) Sensitivity of Technology Contained in the Defense Article or Defense Services Proposed to be Sold: None

(viii) Date Report Delivered to Congress: 17 February 2016

* as defined in Section 47(6) of the Arms Export Control Act.

POLICY JUSTIFICATION

Kingdom of Saudi Arabia—Support Services

The Government of Saudi Arabia has requested a possible sale of support services by the United States Military Training Mission to Saudi Arabia (USMTM). USMTM is the Security Cooperation Organization (SCO) responsible for identifying, planning, and executing U.S. Security Cooperation training and advisory support for the Kingdom of Saudi Arabia Ministry of Defense. The estimated cost is $200 million.

This proposed sale will enhance the foreign policy and national security objectives of the United States by helping to improve the security of an important partner which has been and continues to be an important force for political stability and economic progress in the Middle East.

This proposed sale will provide the continuation of Technical Assistance Field Teams (TAFT) and other support for USMTM services to the Kingdom of Saudi Arabia. The proposed sale supports the United States' continued commitment to the Kingdom of Saudi Arabia's security and strengthens U.S.-Saudi Arabia strategic partnership. Sustaining the USMTM supports Saudi Arabia in deterring hostile action and increases U.S.—Saudi Arabia military interoperability. Saudi Arabia will have no difficulty absorbing this support.

The proposed sale will not alter the basic military balance in the region. It will support Combatant Command initiatives in the region by enabling Saudi Arabia's efforts to combat aggression and terrorism.

There is no prime contractor associated with this proposed sale. There are no known offset agreements in connection with this potential sale.

Implementation of this proposed sale will approve the permanent or temporary assignment of up to 202 case-funded U.S. Government or contractor personnel to the Kingdom of Saudi Arabia.

There will be no adverse impact on U.S. Defense readiness as a result of this proposed sale.

[FR Doc. 2016-04706 Filed 3-3-16; 8:45 am]

BILLING CODE 5001-06-P